DEPARTMENT OF HEALTH AND HUMAN SERVICES

Substance Abuse and Mental Health Services Administration

Community Mental Health Services Performance Partnership

AGENCY: Substance Abuse and Mental Health Services Administration (SAMHSA), HHS.

ACTION: Notice; correction.

SUMMARY: The Substance Abuse and Mental Health Services Administration published a document in the Federal Register of December 24, 2002, requesting comments from the general public on our proposal to change the Substance Abuse Prevention and Treatment Block Grant Program into the Substance Abuse Prevention and Treatment Performance Partnership Program. The document was mis-titled.

FOR FURTHER INFORMATION CONTACT: Joseph D. Faha, Director of Legislation, (301) 443-7017.

Correction

In the Federal Register of December 24, 2002 in FR DOC 02-32305 on page 78496, concerning a request for comments from the general public on our proposal to change the Substance Abuse Prevention and Treatment Block Grant Program into the Substance Abuse Prevention and Treatment Performance Partnership correct the title of the document to read:

Substance Abuse Prevention and Treatment Performance Partnership

Dated: January 9, 2003.
Ann C. Agnew,
Executive Secretary to the Department.

[FR Doc. 03-885 Filed 1-15-03; 8:45 am]

BILLING CODE 4162-20-P